DEPARTMENT OF COMMERCE

National Oceanic and Atmospheric Administration

RIN 0648-XD860

South Atlantic Fishery Management Council (SAFMC); Public Hearings

AGENCY: National Marine Fisheries Service (NMFS), National Oceanic and Atmospheric Administration (NOAA), Commerce.

ACTION: Notice of public hearings.

SUMMARY: The South Atlantic Fishery Management Council (Council) will hold a series of public hearings pertaining to Amendment 36 to the Snapper Grouper Fishery Management Plan (FMP) for the South Atlantic. The amendment addresses the establishment of Spawning Special Management Zones (SMZs) to protect important spawning habitat for species in the snapper grouper management unit. The public is asked to provide input on areas for consideration as well as other actions in the amendment.

DATES: The public hearings will be held via webinar April 20, 2015 through April 23, 2015. A public hearing for Snapper Grouper Amendment 36 will also be held in Key West, FL in conjunction with the SAFMC meeting on June 10, 2015 beginning at 5:30 p.m. With the exception of the public hearing in Key West, FL, all public hearings will be conducted via webinar accessible via the internet from the Council's Web site at www.safmc.net. Hearings held via webinar will begin at 6 p.m. Registration for each webinar is required. Registration information will be posted on the SAFMC Web site at www.safmc.net as it becomes available. Any graphics, including maps, drawings or images to be shown during public comment should be emailed to Mike Collins at mike.collins@safmc.net prior to the public hearing. Webinar registrants may test/confirm their computer set up for the webinar one hour prior to each hearing and contact Mike Collins at (843) 763-1050 to address any questions regarding webinar setup. Local comment stations will also be provided at the locations listed in SUPPLEMENTARY INFORMATION.

ADDRESSES: See SUPPLEMENTARY INFORMATION for specific dates, times and locations of the hearings.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: Public hearing dates and local comment station addresses:

1. April 20, 2015—Local Comment Stations: SC Department of Natural Resources, Marine Resources Research Institute Auditorium, 217 Fort Johnson Road, Charleston, SC 29422-2559; telephone: (843) 953-9300 and Holiday Inn Express, 722 Highway 17, Little River, SC 29566; phone: (843) 281-9400.

2. April 21, 2015—Local Comment Station: NC Division of Marine Fisheries, Central District Office, 5285 Highway 70 West, Morehead City, NC 28557; telephone: (252) 726-7021.

3. April 22, 2015—Local Comment Station: Coastal Resources Division, GA Department of Natural Resources, One Conservation Way, Brunswick, GA 31528-8687; telephone: (912) 264-7218 and Richmond Hill Fish Hatchery, 110 Hatercry Drive, Richmond Hill, GA 31324; telephone: (912) 756-3691.

4. April 23, 2015—Local Comment Station: Hampton Inn Daytona Speedway, 1715 W. International Speedway Boulevard, Daytona Beach, FL 32114; telephone: (386) 257-4030.

5. June 10, 2015—A public hearing will be held in conjunction with the SAFMC meeting beginning at 5:30 p.m.; Doubletree Grand Key Resort, 3990 S. Roosevelt Blvd., Key West, FL 33040; telephone: (305) 293-1818.

Public Hearing: Amendment 36 to the Snapper Grouper FMP

This amendment includes an approach to identify and protect important spawning habitat for snapper grouper species through the designation of Spawning Special Management Zones (SMZs). The amendment would modify the current procedure for establishing SMZs to include protection of natural bottom important for spawning, allowing for the designation of “Spawning SMZs”. The amendment would also modify the framework procedure to allow modifications of and/or additional Spawning SMZs through the Snapper Grouper Fishery Management Plan for the South Atlantic. The amendment includes sample sites for Spawning SMZ sites and allows for the boundary of the existing Charleston Deep Artificial Reef MPA off the coast of South Carolina to be moved to accommodate recently deployed artificial reef material. Fishing for or possession of snapper grouper species would be prohibited within the Spawning SMZs, but fishermen would be allowed to troll for pelagic species (e.g., mackerels, billfish, tunas, etc.). The amendment also includes alternatives for transit and anchoring provisions.

Written comments may be directed to Bob Mahood, Executive Director, SAFMC (see ADDRESSES) or via email to: Mike.Collins@safmc.net. Note that email comments should specify “Snapper Grouper Amendment 36” in the Subject Line of the email. Public hearing comments for Snapper Grouper Amendment 36 will be accepted until 5:00 p.m. on May 1, 2015. A copy of the public hearing document will be posted on the Council's Web site at www.safmc.net when it becomes available.

During the webinars, Council staff will present an overview of the amendment and will be available for informal discussions and to answer questions via webinar. Members of the public will have an opportunity to go on record to record their comments for consideration by the Council. Area Council representatives will be present at the local comment stations.

Special Accommodations

These hearings are physically accessible to people with disabilities. Requests for auxiliary aids should be directed to the Council office (see ADDRESSES) 3 days prior to the hearing.

Note: The times and sequence specified in this agenda are subject to change.

Authority: 16 U.S.C. 1801 et seq.

Dated: April 1, 2015.
Tracey L. Thompson,
Acting Deputy Director, Office of Sustainable Fisheries, National Marine Fisheries Service.

[FR Doc. 2015-07790 Filed 4-3-15; 8:45 am]

BILLING CODE 3510-22-P